DEPARTMENT OF COMMERCE

National Oceanic and Atmospheric Administration

RIN 0648-XE221

Endangered and Threatened Species; Take of Anadromous Fish

AGENCY: National Marine Fisheries Service (NMFS), National Oceanic and Atmospheric Administration (NOAA), Commerce.

ACTION: Issuance of one enhancement of survival permit.

SUMMARY: Notice is hereby given that NMFS has issued Permit 20032 to Sonoma County Water Agency.

ADDRESSES: The application, issued permit, and supporting documents are available upon written request or by appointment: California Coastal Office, NMFS, 777 Sonoma Avenue, Room 325, Santa Rosa, CA 95404, ph: (707)-387-0737, fax: (707) 578-3435).

FOR FURTHER INFORMATION CONTACT: Dan Wilson, Santa Rosa, CA (ph.: 707-578-8555, Fax: 707-578-3435, email: dan.wilson@noaa.gov).

SUPPLEMENTARY INFORMATION:

The issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

The following listed species are covered in this notice:

Threatened California Coastal (CC) Chinook salmon (Oncorhynchus tshawytscha), Endangered Central California Coast (CCC) Coho salmon (O. kisutch), and

Threatened CCC Steelhead (O. mykiss).

Permits Issued

Permit 20032

A notice of receipt of an application for an enhancement of survival permit (20032) was published in the Federal Register on November 18, 2015 (80 FR 72047). Permit 20032 was issued to the Permit Holder, Sonoma County Water Agency, on March 3, 2016, and expires on March 3, 2051.

Permit 20032 facilitates the implementation of the Dry Creek Valley Programmatic Safe Harbor Agreement (Agreement) that is expected to promote the recovery of the Covered Species on non-federal properties within Dry Creek below Warm Springs Dam, a tributary to the Russian River in Sonoma County, California. The duration of the Agreement and Permit 20032 is 35 years.

Permit 20032 authorizes the incidental taking of the Covered Species associated with routine viticulture activities and the potential future return of any property included in the Agreement to the Elevated Baseline Condition. Under this Agreement, individual landowners (Cooperators) may include their properties by entering into a Cooperative Agreement with the Permit Holder. Each Cooperative Agreement will specify the restoration and/or enhancement, and management activities to be carried out on that specific property and a timetable for implementing those activities. All Cooperative Agreements will be reviewed by NMFS to determine whether the proposed activities will result in a net conservation benefit for the Covered Species and meet all required standards of the Safe Harbor Policy (64 FR 32717). Upon NMFS approval, the Permit Holder will issue a Certificate of Inclusion to the Cooperator. Each Certificate of Inclusion will extend the incidental take coverage conferred by the Enhancement of Survival permit to the Cooperator. Certificates of Inclusion will be valid for a minimum of 10 years, but no longer than the term of Permit 20032. The Agreement requires that each enrolled property adopt an Elevated Baseline Condition. Elevated Baseline levels for the Covered Species will be determined by completing the Elevated Baseline Habitat Worksheet (Table 1 in Attachment 3 of the Agreement), which will be completed by the Permit Holder. NMFS will review each Elevated Baseline determination prior to the Permit Holder issuing a Certificate of Inclusion to the Cooperator. The Agreement also contains a monitoring component that requires the Permit Holder to ensure that the Cooperators are in compliance with the terms and conditions of the Agreement, and that the Elevated Baseline levels of habitat for the Covered Species occur on the Enrolled Property. Results of these monitoring efforts will be provided to NMFS by the Permit Holder in annual reports for the duration of the 35-year permit term.

Permit 20032 authorizes those Cooperators who have been issued a Certificate of Inclusion to take Covered Species incidental to the implementation of the management activities specified in the Agreement, incidental to other lawful uses of the property including routine viticulture activities, and to return to Elevated Baseline Conditions if desired.

Dated: May 26, 2016.
Angela Somma,
Chief, Endangered Species Division, Office of Protected Resources, National Marine Fisheries Service.

[FR Doc. 2016-12825 Filed 5-31-16; 8:45 am]

BILLING CODE 3510-22-P